DEPARTMENT OF COMMERCE

Foreign-Trade Zones Board

[B-76-2018]

Foreign-Trade Zone (FTZ) 70—Detroit, Michigan, Authorization of Production Activity, Fluid Equipment Development Company, LLC (Energy Recovery Turbines and Centrifugal Pumps), Monroe, Michigan

On November 28, 2018, the Greater Detroit Foreign-Trade Zone, Inc., grantee of FTZ 70, submitted a notification of proposed production activity to the FTZ Board on behalf of Fluid Equipment Development Company, LLC, within Site 77, in Monroe, Michigan.

The notification was processed in accordance with the regulations of the FTZ Board (15 CFR part 400), including notice in the Federal Register inviting public comment (83 FR 63154-63155, December 7, 2018). On May 7, 2019, the applicant was notified of the FTZ Board's decision that no further review of the activity is warranted at this time. The production activity described in the notification was authorized, subject to the FTZ Act and the FTZ Board's regulations, including Section 400.14.

Dated: May 7, 2019.
Andrew McGilvray,
Executive Secretary.

[FR Doc. 2019-09789 Filed 5-10-19; 8:45 am]

BILLING CODE 3510-DS-P